DEPARTMENT OF COMMERCE

National Oceanic and Atmospheric Administration

RIN 0648-XG862

Endangered and Threatened Species; Take of Abalone

AGENCY: National Marine Fisheries Service (NMFS), National Oceanic and Atmospheric Administration (NOAA), Commerce.

ACTION: Notice; application for one enhancement permit.

SUMMARY: Notice is hereby given that NMFS has received a revised permit application request for one new enhancement permit. The original permit application was released for public comment on September 26, 2018. However, before the permit application was processed, the applicant requested substantive changes that required additional public review and comment. The proposed work is intended to increase knowledge of species listed under the Endangered Species Act (ESA) and to help guide management, conservation, and recovery efforts. The application may be viewed online at: https://apps.nmfs.noaa.gov/preview/preview_open_for_comment.cfm.

DATES: Comments or requests for a public hearing on the application must be received at the appropriate address or fax number (see ADDRESSES) no later than 5 p.m. Pacific standard time on April 15, 2019.

ADDRESSES: Written comments on the application should be submitted to the Protected Resources Division, NMFS, 501 West Ocean Boulevard, Suite 4200, Long Beach, CA 90802. Comments may also be submitted via fax to 562-980-4027 or by email to nmfs.wcr-apps@noaa.gov (include the permit number in the subject line of the fax or email).

FOR FURTHER INFORMATION CONTACT: Susan Wang, Long Beach, CA (ph.: 562-980-4199, Fax: 562-980-4027, email: Susan.Wang@noaa.gov). Permit application instructions are available from the address above, or online at https://apps.nmfs.noaa.gov.

SUPPLEMENTARY INFORMATION:

Species Covered in This Notice

The following listed species are covered in this notice:

Endangered white abalone (Haliotis sorenseni).

Authority

Enhancement permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 18116

The NMFS West Coast Region (WCR) has requested a five-year enhancement permit to annually take larval, juvenile, and adult white abalone in California. The original permit application was submitted on August 25, 2018 and posted for public comment on September 26, 2018. Since then, the WCR has requested changes to the proposed action that are substantive enough to require additional public comment.

The purpose of the proposed work is to experimentally outplant white abalone along the Southern California Coast and determine which methods, locations, habitats, sizes, and densities are optimal for white abalone growth and survival. The activities would benefit the listed species by increasing numbers of white abalone in the wild and informing future large-scale outplanting efforts designed to create self-sustaining populations in locations where white abalone are at risk of being extirpated. The NMFS WCR proposes to evaluate three approaches. First, captive-bred juveniles would be outplanted using two different types of outplanting modules: (1) Baby abalone recruitment trackers (BARTs); and (2) smaller, short-term abalone fixed enclosures (SAFEs). Second, captive-reared larvae would be outplanted using a larval pump module and a net “tent” designed to retain larvae until settlement. Third, captive-bred adults or wild-collected broodstock would be hand-placed at sites where wild white abalone have been observed previously. All outplanting would be conducted within the Southern California Bight and would use white abalone maintained and collected under Enhancement Permit 14344-2R, issued under section 10(a)(1)(A) of the ESA to the University of California, Davis—Bodega Marine Laboratory. Growth, survival, genetics, health, and habitat quality would be monitored at regular intervals following outplanting. Post-outplant monitoring would primarily consist of observing, counting, and measuring the abalone, and collecting tissue and/or fecal samples using non-lethal methods. Post-outplant monitoring will occur on a quarterly to annual basis for each outplanting method and will involve collecting shell length, genetic samples, fecal samples, time lapse camera images, and empty shells. The researchers do not intend to kill any listed white abalone, but some may die as an inadvertent result of the research and enhancement activities.

Substantive changes to the permit application include requests to: (1) Outplant greater numbers of small, captive-bred adults that may be too large for outplanting to the BARTs or SAFEs; and (2) collect white abalone that are dead (i.e., not attached to substrate and unresponsive) or obviously unhealthy (i.e., noticeably shrunken, unable to adhere firmly to substrate, and unable to right itself when placed upside down on substrate—indicating death within days). These specimens would undergo further analysis to determine the cause of death.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: March 11, 2019.
Angela Somma,
Chief, Endangered Species Division, Office of Protected Resources, National Marine Fisheries Service.

[FR Doc. 2019-04763 Filed 3-13-19; 8:45 am]

BILLING CODE 3510-22-P